DEPARTMENT OF COMMERCE

National Institute of Standards and Technology

Open Meeting of the Information Security and Privacy Advisory Board

AGENCY: National Institute of Standards and Technology, Commerce.

ACTION: Notice.

SUMMARY: The Information Security and Privacy Advisory Board (ISPAB) will meet Wednesday, March 29, 2017 from 9:00 a.m. until 5:00 p.m., Eastern Time, Thursday, March, 30, 2017, from 9:00 a.m. until 5:00 p.m., Eastern Time, and Friday, March 31, 2017 from 9:00 a.m. until 12:00 p.m. Eastern Time. All sessions will be open to the public.

DATES: The meeting will be held on Wednesday, March 29, 2017, from 9:00 a.m. until 5:00 p.m., Eastern Time, Thursday, March 30, 2017, from 9:00 a.m. until 5:00 p.m., Eastern Time, and Friday, March 31, 2017 from 9:00 a.m. until 12:00 p.m. Eastern Time.

ADDRESSES: The meeting will be held at the National Press Club Building, 519 14th St. NW., Washington, DC, 13th Floor on Wednesday, March 29th and Thursday, March 30th, 2017. The meeting will be held at the Dirksen Senate Office Building, Room R-253 in Washington, DC on Friday, March 31st, 2017. Please note admittance instructions under the SUPPLEMENTARY INFORMATION section of this notice.

FOR FURTHER INFORMATION CONTACT: Matthew Scholl, Information Technology Laboratory, NIST, 100 Bureau Drive, Stop 8930, Gaithersburg, MD 20899-8930, telephone: (301) 975-2941, Email address: mscholl@nist.gov.

SUPPLEMENTARY INFORMATION: Pursuant to the Federal Advisory Committee Act, as amended, 5 U.S.C. App., notice is hereby given that the ISPAB will meet Wednesday, March 29, 2017, from 9:00 a.m. until 5:00 p.m., Eastern Time, Thursday, March 30, 2017, from 9:00 a.m. until 5:00 p.m., Eastern Time, and Friday, March 31, 2017 from 9:00 a.m. until 12:00 p.m. Eastern Time. All sessions will be open to the public. The ISPAB is authorized by 15 U.S.C. 278g-4, as amended, and advises the National Institute of Standards and Technology (NIST), the Secretary of Homeland Security, and the Director of the Office of Management and Budget (OMB) on security and privacy issues pertaining to Federal government information systems, including thorough review of proposed standards and guidelines developed by NIST. Details regarding the ISPAB's activities are available at http://csrc.nist.gov/groups/SMA/ispab/index.html.

The agenda is expected to include the following items:

—Presentation relating to impacts of federal hiring restrictions on the cybersecurity workforce,

—The Department of Homeland Security's (DHS's) plans for incorporating voting systems as critical infrastructure,

—The use of bug bounties in the US Government,

—Presentation on Cybersecurity Framework and the US Government,

—Discussions with OMB on current and planned policy for cybersecurity,

—Actions and activities to prevent Distributed Denial of Service Attacks,

—Presentation on DHS's Mobility Study,

—Panel discussion/presentation on National Telecommunications and Information Administration Internet of Things report,

—Discussion on Ransomware and lessons learned from invited panelists, and

—Updates on NIST Information Technology Laboratory's Computer Security Division.

Note that agenda items may change without notice. The final agenda will be posted on the Web site indicated above. Seating will be available for the public and media. Pre-registration is not required to attend this meeting.

Public Participation: The ISPAB agenda will include a period of time, not to exceed thirty minutes, for oral comments from the public (Thursday, March 30, 2017, between 3:00 p.m. and 3:30 p.m.). Speakers will be selected on a first-come, first served basis. Each speaker will be limited to five minutes. Questions from the public will not be considered during this period. Members of the public who are interested in speaking are requested to contact Matthew Scholl at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Kevin Kimball,
Chief of Staff.

[FR Doc. 2017-03970 Filed 2-28-17; 8:45 am]

BILLING CODE 3510-13-P